COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List services to be furnished by nonprofit agencies employing persons who are blind or have other severe disabilities, and deletes from the Procurement List products previously furnished by such agencies.

DATES: Effective December 12, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On September 17, 2004, the Committee for Purchase From People Who Are Blind or Severely Disabled published notice (69 FR 56037) of proposed additions to the Procurement List. After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services, Center for Information Services (CIS) Data Center, 1173 Branchton Road, Boyers, Pennsylvania.

NPA: The Easter Seal Society of Western Pennsylvania, Pittsburgh, Pennsylvania Contract Activity: Office of Personnel Management, Washington, DC.

Service Type/Location: Laundry Service, Alien Detention & Removal (ADR), Immigration & Customs Enforcement (IEC), Customs & Border Protection (CBP), San Diego, California.

NPA: Job Options, Inc., San Diego, California.

Contract Activity: Department of Homeland Security, Laguna Niguel, California.

Deletions

On September 17, 2004, the Committee for Purchase From People Who Are Blind or Severely Disabled published notice (69 FR 56037/38) of proposed deletions to the Procurement List. After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSN: Cleaner, Multi-Purpose, 7930-01-398-0938.

NPA: Lighthouse for the Blind, St. Louis, Missouri.

Contract Activity: GSA, Southwest Supply Center, Fort Worth, Texas.

Product/NSN: Cleaning Compound, Rug and Upholstery, 7930-00-724-9556.

NPA: None currently authorized.

Contract Activity: GSA, Southwest Supply Center, Fort Worth, Texas.

Product/NSN: Detergent, General Purpose, 7930-00-282-9700.

NPA: Lighthouse for the Blind, St. Louis, Missouri.

Contract Activity: GSA, Southwest Supply Center, Fort Worth, Texas.

Product/NSN: Enamel, 8010-01-333-0916.

NPA: Lighthouse for the Blind, St. Louis, Missouri.

Contract Activity: GSA, Hardware & Appliances Center, Kansas City, Missouri.

Product/NSN: Net, Laundry,

3510-00-841-8376,

3510-00-841-8384.

NPA: Industries of the Blind, Inc., Greensboro, North Carolina.

Contract Activity: GSA, Southwest Supply Center, Fort Worth, Texas.

Product/NSN: Soap, Toilet, 8520-00-141-2519.

NPA: Lighthouse for the Blind, St. Louis, Missouri.

Contract Activity: GSA, Southwest Supply Center, Fort Worth, Texas.

Sheryl D. Kennerly,
Director, Information Management.

[FR Doc. 04-25230 Filed 11-10-04; 8:45 am]

BILLING CODE 6353-01-P